DEPARTMENT OF THE INTERIOR

Fish and Wildlife Service

Noxubee National Wildlife Refuge

AGENCY: Fish and Wildlife Service, Department of the Interior.

ACTION: Notice of availability of final Comprehensive Conservation Plan for Noxubee National Wildlife Refuge, Located in Noxubee, Oktibbeha, and Winston Counties, Mississippi.

SUMMARY: The Fish and Wildlife Service announces that a final Comprehensive Conservation Plan for Noxubee National Wildlife Refuge is available for distribution. The plan was prepared pursuant to the National Wildlife Refuge System Improvement Act of 1997, and in accordance with the National Environmental Policy Act of 1969, and describes how the refuge will be managed for the next 15 years. The compatibility determinations for recreational hunting, recreational fishing, wildlife observation and photography, environmental education and interpretation, forest habitat management, haying, and research and collections are also available within the plan.

ADDRESSES: A copy of the plan may be obtained by writing to the Noxubee National Wildlife Refuge, 224 Office Road, Brooksville, Mississippi 39739. The plan may also be accessed and downloaded from the Service's Internet Web Site: http://southeast.fws.gov/planning.

SUPPLEMENTARY INFORMATION: Noxubee National Wildlife Refuge, located in east-central Mississippi, consists of 47,959 acres, of which 42,500 acres are in bottomland hardwood, upland hardwood, mixed pine/hardwood and pine forests. These forests support a variety of upland species including turkey, deer, and quail. The endangered red-cockaded woodpecker is found in the refuge's old-growth pine habitat. Many neotropical bird species benefit from refuge forests. Greentree reservoirs, natural ponds, and man-made impoundments provide important habitat for migratory birds, as well as wintering habitat for waterfowl and bald eagles. Annually, more than 150,000 visitors participate in refuge activities.

The availability of the Draft Comprehensive Conservation Plan and Environmental Assessment for a 60-day public review and comment period was announced in the Federal Register on May 21, 2003, volume 68, number 98. The plan and environmental assessment identified and evaluated three alternatives for managing the refuge over the next 15 years. Alternative 1, the “no action” alternative, would have continued current management of the refuge. Alternative 2, the “preferred alternative” emphasized old growth forest communities, with increased emphasis on education and recreation programs. Alternative 3 emphasized providing early successional forest habitat and increases in certain education and recreation programs.

Based on the environmental assessment and the comments received, Alternative 2, the “preferred alternative,” was selected for implementation. It was selected because it best meets the purposes and goals of the refuge, as well as the goals of the National Wildlife Refuge System. The preferred alternative will also benefit the public by providing opportunities to learn about, enjoy, and appreciate fish and wildlife. The preferred alternative also emphasizes providing habitat for red-cockaded woodpeckers and forest nesting birds dependent on mature forests and adequate habitat for resident and migratory waterfowl. A comprehensive cultural resources' survey will be conducted under this alternative, and protection and interpretation of cultural resources will be improved.

FOR FURTHER INFORMATION CONTACT: Refuge Manager, Noxubee National Wildlife Refuge, telephone: 662/323-5548; fax: 662/323-5806; e-mail: noxubee@fws.gov; or by writing to the Refugee Manager at the above address.

Authority: This notice is published under the authority of the National Wildlife Refuge System Improvement Act of 1997, Public Law 105-57.

Dated: November 14, 2003.
J. Mitch King,
Acting Regional Director.
Editoral Note: This document was received in the Office of the Federal Register on April 7, 2004.

[FR Doc. 04-8191 Filed 4-9-04; 8:45 am]

BILLING CODE 4316-55-M